DEPARTMENT OF TRANSPORTATION

Office of the Assistant Secretary for Research and Technology; University Transportation Centers (UTC) Program, Competition for Regions 1, 2, and 3

AGENCY: Office of the Assistant Secretary for Research and Technology (OST-R), DOT.

ACTION: Notice of Funding Availability.

SUMMARY: The United States Department of Transportation (the Department) is publishing this notice to give eligible nonprofit institutions of higher learning in Standard Federal Regions 1, 2, and 3 advance notice that they will have an opportunity to submit, through a re-competition, grant applications as a Regional Center, for Standard Federal Regions 1, 2 and 3, in the University Transportation Centers (UTCs) program (Catalog of Federal Domestic Assistance number 20.701).

Funds for this grant program were authorized beginning on October 1, 2015. In the near future, the Department, via the Office of the Assistant Secretary for Research and Technology (OST-R), will release a grant solicitation through Grants.gov, and the UTC Program's Web site, http://utc.dot.gov, describing the competition and deadlines for applications. Proposals will be evaluated through a competitive process on the basis of demonstrated ability, research, technology transfer and education resources, leadership, multimodal research capability, commitment to transportation workforce development programs, dissemination of results, and the use of peer review, cost effectiveness and partnerships to advance diversity.

FOR FURTHER INFORMATION CONTACT: Dr. Kevin Womack, Director, Office of Research, Development and Technology, mail code RDT-10, OST-R, 1200 New Jersey Avenue SE., Washington, DC 20590. Telephone Number (405) 954-7312 or Email: Kevin.Womack@dot.gov.

SUPPLEMENTARY INFORMATION:

Table of Contents

I. Background

II. Eligibility

III. Matching Requirements

IV. Application Process

V. Program Funding and Award

VI. Use of Grant Funds

I. Background

The Fixing America's Surface Transportation Act (FAST Act; Pub. L. 114-94, Sec. 6002(a)(5); December 4, 2015) authorizes $72.5 million for Federal fiscal year (FY) 2016, $75 million for FY 2017 and FY 2018, and $77.5 million for FY 2019 and FY 2020 for up to 35 competitive grants for UTCs. The FY 2016 through FY 2020 funds are subject to appropriations and to an annual obligation limitation. The amount of budget authority available in a given year may be less than the amount authorized for that fiscal year.

The FAST Act authorizes the Secretary of Transportation to make grants to eligible nonprofit institutions of higher education to establish and operate UTCs. Nonprofit institutions of higher education may include qualifying two-year institutions (20 U.S.C. 1001(a)). OST-R will manage the UTC Program for the Department. The Department will solicit competitive grant applications for three Regional University Transportation Centers, one each in Standard Federal Regions 1, 2, and 3. Previously, the Department solicited competitive grant applications for these three regions; however, the Department did not select any of the submitted applications. UTCs will be selected by the Secretary, in consultation as appropriate with the Assistant Secretary for Research and Technology, and the Administrator of the Federal Highway Administration and other modal administrators as appropriate. (49 U.S.C. 5505(b)(4)(B) as amended by Pub. L. 114-94, Sec. 6016).

The Department plans to competitively select three Regional UTCs, one in each Standard Federal Regions 1, 2, and 3, with an initial annual award ofup to $2,570,600 each.

The role of each UTC is to advance transportation expertise and technology in the varied disciplines that comprise the field of transportation through education, research, and technology transfer activities; to provide for a critical transportation knowledge base outside of the Department of Transportation; and to address critical workforce needs and educate the next generation of transportation leaders.

II. Eligibility

A UTC must be located in the United States or territories. A change in the UTC Program from prior authorizations is that each UTC must be a consortium of two or more nonprofit institutions of higher learning (49 U.S.C. 5505(b)(1) as amended by Public Law 114-94, § 6016). A Regional UTC must be located in the region for which the grant is sought. (49 U.S.C. 5505(c)(3)(B)(ii) as amended by Pub. L. 114-94, § 6016). All members of a Regional UTC consortium must be located in the region for which the grant is sought.

For Region 1, the eligible states are: Connecticut, Maine, Massachusetts, New Hampshire, Rhode Island and Vermont. For Region 2, the eligible states/territories are: New Jersey, New York, Puerto Rico, and the U.S. Virgin Islands. For Region 3, the eligible states are: Delaware, the District of Columbia, Maryland, Pennsylvania, Virginia and West Virginia.

Institutions may collaborate with state and local departments of transportation, Metropolitan Planning Organizations, the private sector and non-governmental organizations; however, these organizations or others that are not U.S. nonprofit institutions of higher learning may not be considered members of a consortium. A change from previous UTC Program competitions is that two-year institutions may be members of a consortium if they meet the definition of “institution of higher learning” in 20 U.S.C. 1001(a). The grantee institution (lead institution of a consortium of institutions) will be the direct and primary recipient of UTC program funds. The grantee institution must perform a substantive role in carrying out UTC activities, and not serve merely as a conduit for awards to other parties.

Applicants are reminded of the following restriction (49 U.S.C. 5505(b)(2)(A) as amended by Public Law 114-94, § 6016):

A lead institution of a consortium of nonprofit institutions of higher education may only receive one grant per fiscal year for each type of Center. Thus, a lead institution may receive grants as a National Center, a Regional Center, and a Tier 1 Center, but not more than one grant in each category.

Ill. Matching Requirements

Each UTC is required to obtain matching funds from non-federal sources. The amount of matching funds required for a Regional UTC is 100 percent of the Federal award. The matching amounts may include the amounts made available to a grant recipient under 23 U.S.C. 504(b) or 505.

IV. Application Process

Full and Open Competition. The Department will conduct the UTC program selection based on principles of full and open competition. Three Regional Centers will be selected from the pool of applicants.

Subject Matter Focus. A change to the UTC Program in this competition is that applicants must address the following selected research priorities taken from section 6503, Subtitle III of title 49 as amended by Public Law 114-94, § 6016:

A. Improving mobility of people and goods; B. Reducing congestion;

C. Promoting safety;

D. Improving the durability and extending the life of transportation infrastructure; and

E. Preserving the existing transportation system.

The Secretary has selected nonexclusive candidate topic areas that will fall within these priority areas. Each UTC will be awarded a grant based on its ability to address one of the priorities and the topic areas that fall within the priority area selected.

Regional UTCs: One UTC will be selected in each of Standard Federal Regions 1, 2, and 3. Regional UTCs are required to focus on transportation research and education (49 U.S.C. 5505(c)(3)(B) as amended by Pub. L. 114-94, § 6016). Regional UTCs must be able to conduct research in an area of focus from among nonexclusive candidate topic areas established by the Secretary that address the research priorities identified in section 6503, Subtitle III of title 49 as amended by Public Law 114-94, § 6016. An applicant for a Regional UTC must designate the region in which it is applying.

Selection criteria. The Department will evaluate and select UTC applicants based on the nine selection criteria outlined in the FAST Act:

“(i) the demonstrated ability of the recipient to address each specific topic area described in the research and strategic plans of the recipient;

“(ii) the demonstrated research, technology transfer, and education resources available to the recipient to carry out this section;

“(iii) the ability of the recipient to provide leadership in solving immediate and long-range national and regional transportation problems;

“(iv) the ability of the recipient to carry out research, education, and technology transfer activities that are multimodal and multidisciplinary in scope;

“(v) the demonstrated commitment of the recipient to carry out transportation worliforce development programs through-

“(!) degree-granting programs or programs that provide other industry-recognized credentials; and

“(II) outreach activities to attract new entrants into the transportation field including women and underrepresented populations;

“(vi) the demonstrated ability of the recipient to disseminate results and spur the implementation of transportation research and education programs through national or statewide continuing education programs;.

“(vii) the demonstrated commitment ofthe recipient to the use of peer review principles and other research best practices in the selection, management, and dissemination of research projects;

“(viii) the strategic plan submitted by the recipient describing the proposed research to be carried out by the recipient and the performance metrics to be used in assessing the performance of the recipient in meeting the stated research, technology transfer, education, and outreach goals; and

“(ix) the ability of the recipient to implement the proposed program in a cost-efficient manner, such as through cost sharing and overall reduced overhead, facilities, and administrative costs. ”

(49 U.S.C. 5505(b)(4)(B) as amended by Pub. L. 114-94, § 6016).

The following additional selection criteria also apply to Regional UTCs:

Regional UTCs. The lead institution in a Regional consortium must have a well-established, nationally recognized program in research and education, as shown by:

(i) recent expenditures by the institution in highway or public transportation research;

(ii) a historical track record of awarding graduate degrees in professional fields closely related to highways and public transportation; and

(iii) an experienced faculty who specialize in professional fields closely related to highways and public transportation.

(49 U.S.C. 5505(c)(3)(B) (iii) as amended by Pub. L. 114-94, § 6016).

Past Performance. The Department is required by 2 CFR part 200, Uniform Administrative Requirements, Cost Principles, and Audit Requirements for Federal Awards, Section 205, to review risk posed by applicants. This may be done through such publicly available information collections as the System for Award Management (SAM.gov) and/or through specifically collected information about the applicant's record in managing Federal awards.

External Stakeholders. The Department will consult with external stakeholders (including the Transportation Research Board ofthe National Academy of Sciences, among others), to the maximum extent practicable, to evaluate and review all proposals. (49 U.S.C. 5505(b)(6) as amended by Pub. L. 114-94, § 6016).

V. Program Funding and Award

UTCs will be selected by the Secretary, in consultation as appropriate with the Assistant Secretary for Research and Technology, the Administrator of the Federal Highway Administration and other modal administrators as appropriate. Awards will be made no later than December 4, 2017, with Federal FY 2016 funds awarded at that time. Subsequent Federal FY 2017-FY 2020 funding will be awarded approximately annually after that date, subject to availability of funds and grantee compliance with grant terms and conditions.

VI. Use of Grant Funds

Grantees will have until September 30, 2023 to expend all funds, assuming availability of annual appropriations.

Issued in Washington, DC, on May 23, 2017.
Elaine L. Chao,
Secretary.

[FR Doc. 2017-10927 Filed 5-25-17; 8:45 am]

BILLING CODE 4910-9X-P